DEPARTMENT OF JUSTICE

Notice of Lodging of a Modified Consent Decree Under the Clean Water Act

Notice is hereby given that on January 27, 2010, a proposed Modified Consent Decree in United States v. Sewerage & Water Board of New Orleans et al., Civil Action No. 93-3213, was lodged with the United States District Court for the Eastern District of Louisiana.

The proposed settlement modifies a 1998 Clean Water Act (“CWA”) Consent Decree between the U.S. Environmental Protection Agency, joined by several Plaintiff-Intervenor citizen groups, and the Sewerage & Water Board of New Orleans (“Board”), the City of New Orleans (“City”), and the State of Louisiana as statutory defendant. In that original Consent Decree, which resolved a 1993 lawsuit brought by the United States alleging CWA violations including unauthorized discharges from the East Bank Collection System, the Board agreed to a 12-year comprehensive program to remediate its antiquated sewage collection system in order to reduce or eliminate sewage overflows into the Mississippi River, Lake Pontchartrain and the City's storm drainage canal system. The program was stalled for several years due to the devastating effects of Hurricane Katrina.

Under the proposed Modified Consent Decree, the Board agrees to continue the comprehensive remediation program and complete it by no later than July 2015. Among other things, the Board will repair its 62 pump stations damaged by the hurricane as well as other hurricane damage in the portions of the collection system served by those pump stations. The Board will also design and implement a new preventive maintenance plan to inspect and clean its pump stations and sewer lines and will proceed under its sewage overflow action plan to take steps to minimize the impact of sewage overflows on the environment. The Board will undertake additional remedial measures including measures designed to provide dependable electrical services at its treatment plant in the event of a future catastrophic event.

The Department of Justice will receive for a period of thirty (30) days from the date of this publication comments relating to the proposed Modified Consent Decree. Comments should be addressed to the Assistant Attorney General, Environment and Natural Resources Division, and either e-mailed to pubcomment-ees.enrd@usdoj.gov or mailed to P.O. Box 7611, U.S. Department of Justice, Washington, DC 20044-7611, and should refer to United States v. Sewerage & Water Board of New Orleans et al., D.J. Ref. 90-5-1-1-4032.

The proposed Modified Consent Decree may be examined at the Office of the United States Attorney, Eastern District of Louisiana, 500 Poydras Street, Suite B-210, New Orleans, LA 70130 (contact Sharon Smith, 504-680-3000), and at U.S. Environmental Protection Agency Region 6, 1445 Ross Avenue, Dallas, Texas 75202 (contact Ellen Chang-Vaughan, 214-665-7328). During the public comment period, the proposed Modified Consent Decree may also be examined on the following Department of Justice Web site, http://www.usdoj.gov/enrd/Consent_Decrees.html. A copy of the proposed Modified Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $33.25 (25 cents per page reproduction cost) payable to the U.S. Treasury or, if by e-mail or fax, forward a check in that amount to the Consent Decree Library at the stated address.

Maureen M. Katz,
Assistant Section Chief, Environmental Enforcement Section, Environment and Natural Resources Division.

[FR Doc. 2010-2262 Filed 2-3-10; 8:45 am]

BILLING CODE 4410-15-P